NATIONAL ARCHIVES AND RECORDS ADMINISTRATION

Public Meeting To Solicit Comments in Response to the Presidential Memorandum, Managing Government Records

AGENCY: National Archives and Records Administration.

ACTION: Notice of meeting.

SUMMARY: The National Archives and Records Administration (NARA) will hold an open meeting to solicit public comments in response to the Presidential Memorandum on Managing Government Records, dated November 28, 2011. The Memorandum directs the Archivist of the United States, in coordination with the Director of OMB, to consult with those inside and outside of the government interested in improving records management and open government. Comments and suggestions received by NARA and OMB will help inform the Records Management Directive that will be issued later this year. The Presidential Memorandum can be found at http://www.whitehouse.gov/the-press-office/2011/11/28/presidential-memorandum-managing-government-records (see also 76 FR 75423, 12/1/11).

This meeting is primarily focused on gathering input from the public interest community, from the vendor/IT community, and from members of the public at large. (Federal agencies will separately be submitting reports to NARA that contain their suggestions for improving and reforming records management.) Additionally, NARA has an IdeaScale site established to receive comments at http://govrecordmanagement.ideascale.com/.

DATES: The meeting will be held on Tuesday, March 27, 2012, from 10 a.m. to 12 p.m.

ADDRESSES: National Archives Building, William G. McGowan Theater, 700 Pennsylvania Avenue NW., Washington, DC 20408. Please enter on the Constitution Avenue side of the building.

FOR FURTHER INFORMATION CONTACT: Laura McCarthy, National Archives at College Park, 8601 Adelphi Road, College Park, MD 20740, 301-837-3023.

SUPPLEMENTARY INFORMATION: This meeting will be open to the public.

Dated: February 16, 2012.
Paul M. Wester, Jr.,
Chief Records Officer for the U.S. Government.

[FR Doc. 2012-4213 Filed 2-22-12; 8:45 am]

BILLING CODE 7515-01-P